DEPARTMENT OF ENERGY

Federal Energy Regulatory Commission

[Docket Nos. CP01-180-000, CP01-181-000 and CP01-182-000]

Cypress Natural Gas Company, L.L.C.; Notice of Applications

May 7, 2001.

Take notice that on April 25, 2001, Cypress Natural Gas Company, L.L.C. (Cypress), P.O. Box 2563, Birmingham, Alabama 35202-2563, filed applications pursuant to Section 7(c) of the Natural Gas Act. In Docket No. CP01-180-000, Cypress seeks a certificate of public convenience and necessity authorizing it to construct, install and operate pipeline, compression, and metering facilities, as well as acquire certain pipeline facilities. In Docket No. CP01-181-000, Cypress seeks a blanket certificate pursuant to 18 CFR Part 284, Subpart G of the Commission's Regulations for self-implementing transportation authority. In Docket No. CP01-182-000, Cypress seeks a certificate of public convenience and necessity to construct and operate natural gas pipeline facilities under Part 157, Subpart E of the Commission's Regulations. Cypress' proposals are more fully set forth in the application which is on file with the Commission and open to public inspection. This filing may be viewed on the web at http://www.ferc.fed.us/online/rims.htm (call 202-208-2222 for assistance).

Cypress proposes in Docket No. CP01-180-000 to construct and operate 166 miles of 24-inch pipeline from an interconnection with the facilities of Southern Natural Gas Company (Southern) in Chatham County, Georgia to an interconnection with the facilities of Florida Gas Transmission Company in Clay County, Georgia. In addition, Cypress proposes to construct and operate at 13,000 horsepower compressor station and four metering stations. Cypress states that the capacity of the proposed pipeline is 310,000 Mcf per day. Further, Cypress seeks authorization to acquire an undivided interest in 310,000 Mcf per day of capacity on Southern's existing pipeline between Elba Island, Georgia and the proposed interconnection between Southern and Cypress in Chatham County, Georgia. Cypress states that the estimated cost of the proposed facilities is approximately $236.1 million and when the cost of acquiring the interest in Southern's facilities is included, the estimated cost is approximately $241.7 million. Cypress states that the project will be financed with equity contributions from its parent, Southern.

Cypress proposes to provide open access firm and interruptible service under Rate Schedules FT and IT, respectively. Cypress will offer both negotiated and recourse rates. Cypress designed its recourse rate using the straight fixed-variable method. Cypress states that its firm rate is designed to recover all fixed costs, less $500,000 which will be allocated to interruptible transportation service, through the monthly reservation charge. Cypress states that variable costs, except compressor power costs and gas lost and unaccounted for, will be recovered through the commodity charge. According to Cypress, compressor power costs and gas lost and unaccounted for are to be recovered through a fuel retention percentage of 0.5%. Cypress has also included a pro forma FERC Gas Tariff.

Cypress asserts that its project will provide a new source of supply—regasified liquefied natural gas (LMG) from the reactivated Southern LNG terminal at Elba Island, Georgia—to markets in south Georgia and north Florida, including new gas-fired electric generation. Further, Cypress states that its proposal is consistent with the Commission's statement of policy on certification of new interstate natural gas pipeline facilities. Cypress requests a preliminary determination on non-environmental issues by October 1, 2001, and final certificate authorization by August 1, 2002. Cypress states that this will allow construction to be completed by its proposed in-service date of June 1, 2003.

Any questions regarding the application should be directed to Patricia S. Francis, Senior Counsel, Cypress Natural Gas Company, L.L.C., P.O. Box 2563, Birmingham, Alabama 35202-2563 at 205-325-7696.

There are two ways to become involved in the Commission's review of this project. First, any person wishing to obtain legal status by becoming a party to the proceedings for this project should, on or before May 29, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-11865 Filed 5-10-01; 8:45 am]

BILLING CODE 6717-01-M